FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 3987N.

Name: Abdulrazak Morgan Farah dba Overseas Express Services.

Address: 17206 S. Figueroa Street, Gardena, CA 90248.

Date Revoked: January 1, 2003.

Reason: Failed to maintain a valid bond.

License Number: 16183F.

Name: AJ International Shipping/Logistics, Inc.

Address: 4548 Mundy Road, Jacksonville, FL 32207.

Date Revoked: September 25, 2002.

Reason: Surrendered license voluntarily.

License Number: 3883N.

Name: Brye International, Inc.

Address: 108 So. Franklin Avenue, Suite 15, Valley Stream, NY 11580.

Date Revoked: December 3, 2002.

Reason: Surrendered license voluntarily.

License Number: 17662N.

Name: Cargozone Trans Corporation.

Address: 19550 Dominguez Hills Drive, Rancho Dominguez, CA 90220.

Date Revoked: January 11, 2003.

Reason: Failed to maintain a valid bond.

License Number: 17037N.

Name: Global Network Financial Services, Inc. dba Global Network.

Address: 1237 NW 93 Court, Miami, FL 33178.

Date Revoked: January 2, 2003.

Reason: Failed to maintain a valid bond.

License Number: 5892N and 5892F.

Name: Greenbriar Forwarding Co., Inc.

Address: 108 Liberty Street, Metuchen, NJ 08840.

Date Revoked: November 22, 2002 and December 22, 2002.

Reason: Failed to maintain valid bonds.

License Number: 11972N and 11972F.

Name: Magna Transportation Inc.

Address: 515 N. Sam Houston Pkwy. East, Suite 340, Houston, TX 77060.

Date Revoked: December 25, 2002 And December 6, 2002.

Reason: Failed to maintain valid bonds.

License Number: 4648F.

Name: Mega Express, Inc.

Address: 6481 Orangethorpe Avenue, #21, Buena Park, CA 90620.

Date Revoked: November 18, 2002.

Reason: Surrendered license voluntarily.

License Number: 12367N.

Name: Maritime Express, Inc.

Address: 9009 Pinehill Line, #226, Houston, TX 77041.

Date Revoked: November 30, 2002.

Reason: Failed to maintain a valid bond.

License Number: 13709N.

Name: Pac West Trading and Transport Inc. dba Pacwest Transport.

Address: 2531 W. 237th Street, Suite 122, Torrance, CA 90505.

Date Revoked: January 8, 2003.

Reason: Failed to maintain a valid bond.

License Number: 1636N.

Name: Packers Enterprises Inc. dba American Export International.

Address: 100 Broad Avenue, Wilmington, CA 90744.

Date Revoked: November 23, 2002.

Reason: Failed to maintain a valid bond.

License Number: 4175N.

Name: Silken Fortress Corporation dba Transcargo International.

Address: 4564 W. 130th Street, Hawthorne, CA 90250.

Date Revoked: December 8, 2002.

Reason: Failed to maintain a valid bond.

License Number: 17742N.

Name: Vankor Logistics Int'l (U.S.A.), Inc.

Address: 1031 W. Manchester Blvd., Unit D, Inglewood, CA 90301.

Date Revoked: October 16, 2002.

Reason: Surrendered license voluntarily.

License Number: 16556N.

Name: YKL America Inc.

Address: 500 Carson Plaza Drive, Suite 213, Carson, CA 90746.

Date Revoked: January 11, 2003.

Reason: Failed to maintain a valid bond.

Sandra L. Kusumoto,
Director, Bureau of Consumer Complaints and Licensing.

[FR Doc. 03-2811 Filed 2-5-03; 8:45 am]

BILLING CODE 6730-01-P